DEPARTMENT OF LABOR

Employment and Training Administration

[TA-W-53,124]

American Bag Corporation A Division of Milliken & Company, Winfield, Tennessee; Amended Certification Regarding Eligibility To Apply for Worker Adjustment Assistance and Alternative Trade Adjustment Assistance

In accordance with Section 223 of the Trade Act of 1974 (19 U.S.C. 2273) and Section 246 of the Trade Act of 1974, as amended, the Department of Labor issued a Certification of Eligibility to Apply for Worker Adjustment Assistance and Alternative Trade Adjustment Assistance on October 15, 2003, applicable to workers of American Bag Corporation; a Division of Milliken & Company; Winfield, Tennessee. The notice was published in the Federal Register on November 6, 2003 (68 FR 62834).

At the request of a state agency representative, the Department reviewed the certification for workers of the subject firm. The workers produce airbags.

The investigation review shows that workers of the subject firm were covered by a previous certification, TA-W-38,870, that did not expire until August 29, 2003.

In order to avoid an overlap in worker group coverage, the Department is amending the impact date for this certification, changing it from September 17, 2002, to August 30, 2003.

The amended notice applicable to TA-W-53,124 is hereby issued as follows:

“All workers of American Bag Corporation, a Division of Milliken & Company, Winfield, Tennessee, who became totally or partially separated from employment on or after August 30, 2003, through October 15, 2005, are eligible to apply for adjustment assistance under Section 223 of the Trade Act of 1974, and are also eligible to apply for alternative trade adjustment assistance under Section 246 of the Trade Act of 1974, as amended.”

Signed at Washington, DC this 8th day of December 2003.
Linda G. Poole,
Certifying Officer, Division of Trade Adjustment Assistance.

[FR Doc. 04-303 Filed 1-6-04; 8:45 am]

BILLING CODE 4510-30-P